DEPARTMENT OF HOUSING AND URBAN DEVELOPMENT

[Docket No. FR-5765-N-01]

Manufactured Housing Consensus Committee; Notice Inviting Individuals To Serve on the Committee

AGENCY: Office of the Assistant Secretary for Housing—Federal Housing Commissioner, HUD.

ACTION: Notice.

SUMMARY: The Department of Housing and Urban Development invites the public to submit nominations for appointment by the Secretary to the Manufactured Housing Consensus Committee (MHCC), a Federal Advisory Committee established by the National Manufactured Housing Construction and Safety Standards Act of 1974, as amended by the Manufactured Housing Improvement Act of 2000.

DATES: The Department will accept nominations on a continuing basis and may make appointments from nominations on file or from nominations submitted in response to this Notice. Nominations not selected for appointment to a current vacancy will be retained for three (3) years and may be considered for vacancies as they arise. New members are appointed for a term of three (3) years, usually beginning in January of each year.

ADDRESSES: Submission Address: Nominations must be in writing and may be submitted to: Henry S. Czauski, Acting Deputy Administrator, Office of Manufactured Housing Programs, Department of Housing and Urban Development, 451 7th Street SW., Room 9168, Washington, DC 20410-8000; telephone number 202-708-6423 (this is not a toll-free number); or by email to: mhcc@hud.gov or fax to HUD at 202-708-4213.

FOR FURTHER INFORMATION CONTACT: Henry S. Czauski, Acting Deputy Administrator, Office of Manufactured Housing Programs, Department of Housing and Urban Development, 451 7th Street SW., Room 9168, Washington, DC 20410-8000; telephone number 202-708-6423 (this is not a toll-free number). For hearing and speech-impaired persons, this number may be accessed via TTY by calling the Federal Relay Service at 1-800-877-8339.

SUPPLEMENTARY INFORMATION:

Background

Section 604 of the Manufactured Housing Improvement Act of 2000 (Pub. L. 106-569) amended the National Manufactured Housing Construction and Safety Standards Act of 1974 (42 U.S.C. 5401-5426) (Act) to require the establishment of the MHCC, a Federal Advisory Committee, to: (1) Provide periodic recommendations to the Secretary to adopt, revise, and interpret the Manufactured Housing Construction and Safety Standards; and (2) to provide periodic recommendations to the Secretary to adopt, revise, and interpret the procedural and enforcement manufactured housing regulations, including regulations specifying the permissible scope and conduct of monitoring. The Act authorizes the Secretary to appoint a total of twenty-two members to the MHCC. Twenty-one members have voting rights; the twenty-second member represents the Secretary and is a non-voting position. Service on the MHCC is voluntary. Travel and per diem for meetings is provided in accordance with federal travel policy pursuant to 5 U.S.C. 5703.

HUD seeks highly qualified and motivated individuals who meet the requirements set forth in the Act to serve as voting members of the MHCC at the pleasure of the Secretary for a term of three (3) years; not to exceed two consecutive terms. The MHCC anticipates four annual meetings. Meetings may take place by conference call or in person. Members of the MHCC undertake additional work commitments on subcommittees and task forces regarding issues under deliberation; members are expected to fulfill the obligation of active participation and failure to do so may result in termination of membership.

Nominee Selection and Appointment

Members of the Manufactured Housing Consensus Committee (MHCC) are appointed to serve in one of the following three member categories:

1. Producers/Retailers—Seven producers or retailers of manufactured housing.

2. Users/Consumers—Seven persons representing consumer interests, such as consumer organizations, recognized consumer leaders, and owners who are residents of manufactured homes.

3. General Interest and Public Officials—Seven general interest and public official members.

The Act provides that the Secretary shall ensure that all interests directly and materially affected by the work of the MHCC have the opportunity for fair and equitable participation without dominance by any single interest; and may reject the appointment of any one or more individuals in order to ensure that there is not dominance by any single interest. For purposes of this determination, dominance is defined as a position or exercise of dominant authority, leadership, or influence by reason of superior leverage, strength, or representation.

Additional requirements governing appointment and member service include:

(1) No individual appointed to the Users category, and three of the individuals appointed to the General Interest and Public Official category shall have a significant financial interest in any segment of the manufactured housing industry; or a significant relationship to any person engaged in the manufactured housing industry.

(2) Each member serving in the Users category or General Interest/Public Officials category shall be subject to a ban disallowing compensation from the manufactured housing industry during the period of, and during the 1-year following, the membership of the individual on the MHCC.

(3) Nominees selected for appointment to the MHCC shall be required to provide disclosures and certifications regarding conflict-of-interest and eligibility for membership prior to final appointment.

Consensus Committee—Advisory Role

The role of the MHCC is solely advisory to the Secretary on the subject matter described above.

Federal Advisory Committee Act

The MHCC is subject to the requirements of the Federal Advisory Committee Act (5 U.S.C. Appendix), and to the Presidential Memorandum, dated June 18, 2010, directing all heads of executive departments and agencies not to make any new appointments or reappointments of federally registered lobbyists to advisory committees and other boards and commissions.

Term of Office

MHCC members are appointed at the discretion of the Secretary for a three-year term, not to exceed two (2) consecutive terms.

Nominee Information

Individuals seeking nomination to the MHCC should submit detailed information documenting their qualifications for the category selected. Individuals may nominate themselves. A sample application form that contains information for consideration is available on the HUD Web site www.hud.gov or by contacting the Office of Manufactured Housing Programs at 202-708-6423 or by email to mhcc@hud.gov. The application form may be accompanied by a resume.

Additional Information

Appointments will be made at the Secretary's discretion.

Dated: January 10, 2014.
Carol J. Galante,
Assistant Secretary for Housing—Federal Housing Commissioner.

[FR Doc. 2014-00864 Filed 1-16-14; 8:45 am]

BILLING CODE 4210-67-P